ENVIRONMENTAL PROTECTION AGENCY

[EPA-HQ-OPPT-2010-0173; FRL-9916-70]

Announcement of Meeting Dates and Opportunity for Public Comments on Proposed List of Potential Peer Reviewers for an Approach for Estimating Exposures and Incremental Health Effects From Lead Due to Renovation, Repair, and Painting Activities in Public and Commercial Buildings

AGENCY: Environmental Protection Agency (EPA).

ACTION: Notice.

SUMMARY: The Agency is requesting public comments on the proposed list of candidate peer reviewers for the independent contractor-managed external peer review of the draft documents released for public comment in the August 6, 2014 Federal Register notice entitled “Approach for Estimating Exposures and Incremental Health Effects from Lead Due to Renovation, Repair, and Painting Activities in Public and Commercial Buildings.” This notice provides the names and professional affiliations of the proposed peer reviewers. The public is requested to provide relevant information or documentation on the candidates who are being evaluated by the external peer review contractor, Versar, Inc. (Versar). Versar will consider the public comments on the proposed list of peer reviewers and will select the final peer reviewers who, collectively, best provide expertise spanning the multiple subject matter areas covered by the draft documents and, to the extent feasible, best provide a balance of perspectives according to EPA peer review guidance. This notice provides the public peer review meeting dates as well as Versar's Web site that will provide details about the meeting location, how to register to attend the meeting either in person or electronically, and how to provide comments at the meeting. The date, time, and conference call-in number of the initial meeting of the peer review panel can be obtained at Versar's peer review Web site.

DATES:

Meeting: A 2-day panel meeting will be held on January 13, and 14, 2015, see Unit IV. of the SUPPLEMENTARY INFORMATION.

Comments: Comments must be received on or before October 20, 2014.

ADDRESSES: Meeting: Details regarding the meeting in Washington, DC, will be posted on Versar's Web site, see Unit IV. of the SUPPLEMENTARY INFORMATION.

Comments: Submit your comments, identified by docket identification (ID) number EPA-HQ-OPPT-2010-0173, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Stan Barone, Jr., Risk Assessment Division (7403M), Office of Pollution Prevention and Toxics, Environmental Protection Agency, 1200 Pennsylvania Ave. NW., Washington, DC 20460-0001; telephone number (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you are in the environmental and human health assessment field; independent contractors and contracting companies involved in renovation, repair, and painting; or members of the public interested in the assessment of chemical risks. The following list of North American Industrial Classification System (NAICS) codes is not intended to be exhaustive, but rather provides a guide to help readers determine whether this document applies to them. Potentially affected entities may include:

• Building construction (NAICS code 236).

• Specialty trade contractors (NAICS code 238).

• Real estate (NAICS code 531).

• Other general governmental support (NAICS code 921).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

EPA has prepared draft documents related to estimating exposures and incremental health effects from lead due to renovation, repair, and paining activities (RRP) in public and commercial buildings (P&CBs) for purposes of public comment (scientific views) and peer review. As discussed in the Federal Register of August 6, 2014 (79 FR 45796) (FRL-9914-12) (http://www.gpo.gov/fdsys/pkg/FR-2014-08-06/pdf/2014-18357.pdf), when finalizing the draft documents, EPA will consider any public comments and peer reviewer comments submitted.

Once the analytical support documents are finalized, they will be utilized in the process of determining whether or not lead-based paint hazards are created by RRP activities in P&CBs, as required under TSCA, Subtitle IV (15 U.S.C. 2681 et seq.). For those renovation activities in P&CBs that create lead-based paint hazards, TSCA directs EPA to address the hazards through regulation.

The draft documents are available through http://www.regulations.gov (docket ID number EPA-HQ-OPPT-2010-0173).

III. Process of Obtaining Candidate Reviewers

Consistent with guidelines for the peer review of influential scientific assessments, EPA tasked Versar to assemble approximately 10-12 scientific experts to evaluate the draft documents cited in this notice. As part of the peer review process, a public nomination period was held from June 27, 2014, to July 18, 2014, during which members of the public were able to nominate scientific experts with knowledge and experience in one or more of the following areas:

1. Multimedia routes of human exposure to lead.

2. Modeling of multimedia human exposures.

3. Lead exposure pathway assessment.

4. Lead uptake/absorption.

5. Internal biokinetic distribution and physiological effects of lead.

6. Tissue concentrations of lead.

7. Human growth and activity patterns.

8. Exposure assessment modeling.

9. Lead-induced health effects.

10. Risk assessment and uncertainty characterization.

Versar also conducted an independent search for scientific experts to augment the list of publically nominated candidates. In total, Versar evaluated the 18 candidates nominated during the public nomination period and Versar identified more than 40 additional candidates.

• Selection process. Versar considered and screened all candidates against the selection criteria described in the Federal Register notice of June 27, 2014 (79 FR 36511) (FRL-9912-63) (http://www.gpo.gov/fdsys/pkg/FR-2014-06-27/pdf/2014-15123.pdf), which included having demonstrated expertise in the areas described, being free of any conflict of interest, being free of appearance of bias, and being available to participate in-person in a 2-day peer review meeting in the Washington, DC area on January 13 and 14, 2015. Following the screening process, Versar narrowed the list of potential reviewers to 15 proposed candidates. This notice solicits comments on the proposed list of 15 candidates. The public is requested to provide relevant information or documentation on the candidates who are being evaluated by Versar. Versar will consider the public comments on the proposed list of peer reviewers and will post the final list of peer reviewers on their Web site (https://peerreview.versar.com/epa/lead).

• Responsibilities of Peer Reviewers. Peer reviewers will be charged with evaluating and preparing written comments on the draft documents. Specifically, reviewers will provide general comments, their overall impressions of the draft documents, and respond to the peer review charge questions. They will consider public comments submitted to the docket (docket ID number EPA-HQ-OPPT-2010-0173).

Following the peer review meeting, Versar will provide a peer review summary report to EPA containing the comments and recommendations from the peer reviewers. The final peer review report will also be made available to the public on Versar's Web site. In preparing the final form of analytical support document, EPA will consider Versar's peer review report which includes comments and recommendations from the external peer review meeting, as well as written public comments received through the docket.

IV. Registration for Initial Conference Call and Public Panel Meeting

Registrations can be made via Versar's Web site (https://peerreview.versar.com/epa/lead) for a public peer review panel meeting via conference call/webinar that will cover initial ground rules of the peer review, overview of the peer review charge and overview of draft documents provided to the peer reviewers. The date, time, and access code for this conference call/webinar will be available on the same registration Web site.

Following the initial conference call/webinar, a 2-day panel meeting will be held on January 13 and 14, 2015, in the Washington, DC area. Specific details regarding the meeting location, registration for personal or electronic attendance, and presentation of comments will be posted on Versar's Web site (https://peerreview.versar.com/epa/lead).

V. Proposed List of Peer Reviewers

EPA requests that no individual or organization contact in any way its contractor or the subcontractor panel members regarding the subject of the peer review meeting, send contractor written materials regarding the subject of the meeting, or make any offers or requests to any of them that appear to be linked to their participation in the peer review. The contractor shall direct the panel members to report any such contacts, who will take appropriate action in consultation with EPA to ensure the independence and impartiality of the peer review.

Following are the names and professional affiliations of the current candidates being considered for the external peer review of the draft documents. A biosketch for the proposed peer reviewers will be posted in the docket (docket ID number EPA-HQ-OPPT-2010-0173) and on Versar's Web site (https://peerreview.versar.com/epa/lead). Versar will select peer reviewers who, collectively, best provide expertise spanning the multiple required areas of expertise listed Unit III. and, to the extent feasible, best provide a balance of perspectives.

1. Deborah Cory-Slechta, Ph. D., University of Rochester, Proposed Chairperson.

2. Panos Georgopoulos, Ph.D., Rutgers University.

3. Phillip Goodrum, Ph.D., Integral Consulting, Inc.

4. Dale Hattis, Ph.D., Clark University.

5. Andrew Hunt, Ph.D., University of Texas, Arlington, TX.

6. Naila Khalil, Ph.D., M.B.B.S., M.P.H., Wright State University.

7. Andy Menke, Ph.D., M.P.H., Social & Scientific Systems, Inc.

8. Howard Mielke, Ph.D., Tulane University.

9. Paul Mushak, Ph.D., PB Associates.

10. Rosalind Schoof, Ph.D., ENVIRON.

11. Joel Schwartz, Ph.D., M.D., Harvard University.

12. Anne Steenhout, Ph.D., Université Libre de Buxelles.

13. Ken Unice, M.S., Cardno ChemRisk.

14. Ian von Lindern, Ph.D., PE, Terra Graphics Environmental Engineering, Inc.

15. Kathleen Vork, Ph.D., M.P.H., California Environmental Protection Agency.

Authority: 15 U.S.C. 2601 et seq.

Dated: September 19, 2014.
Wendy C. Hamnett,
Director, Office of Pollution Prevention and Toxics.

[FR Doc. 2014-23114 Filed 9-26-14; 8:45 am]

BILLING CODE 6560-50-P